DEPARTMENT OF HOMELAND SECURITY

Coast Guard

[USCG-2009-0988]

Great Lakes Pilotage Advisory Committee

AGENCY: Coast Guard, DHS.

ACTION: Notice of meeting; request for applications.

SUMMARY: The Coast Guard announces a Great Lakes Pilotage Advisory Committee (GLPAC) meeting and seeks applications to fill two vacancies on the GLPAC. GLPAC provides advice and makes recommendations to the Secretary on a wide range of issues related to pilotage on the Great Lakes, including the rules and regulations that govern the registration, operating requirements, and training policies for all U.S. registered pilots. The Committee also advises on matters related to ratemaking to determine the appropriate charge for pilot services on the Great Lakes.

DATES: GLPAC will meet on Thursday, January 21, 2010, from 9 a.m. to 12:30 p.m. The meeting may close early if all business is finished. Written material and requests to make oral presentations or to have a copy of your material distributed to each member of the committee should reach us on or before January 7, 2010. Completed applications for GLPAC membership should reach us by January 7, 2010, but will be accepted until the positions are filled.

ADDRESSES: GLPAC will meet at Coast Guard Headquarters, 2100 2nd Street, SW., Washington, DC 20593-0001, Room 51310. Send written material and requests relating to the GLPAC meeting to Mr. John Bobb (see FOR FURTHER INFORMATION CONTACT). Electronically submitted material must be in Adobe or Microsoft Word format. Send applications for GLPAC membership to Mr. Bobb. An application form for GLPAC membership, as well as this notice, is available in our online docket, USCG-2009-0988, at http://www.regulations.gov; enter the docket number for this notice (USCG-2009-0988) in the Search box, and click “Go.” You may also contact Mr. Bobb for a copy of the application form.

FOR FURTHER INFORMATION CONTACT: Mr. John Bobb, GLPAC Assistant Designated Federal Official (ADFO), Commandant (CG-54121), U.S. Coast Guard Headquarters, 2100 Second Street, SW., Stop 7581, Washington, DC 20593-7581; telephone 202-372-1532, fax 202-372-1991, or e-mail at john.k.bobb@uscg.mil.

SUPPLEMENTARY INFORMATION: The GLPAC is a Federal advisory committee under 5 U.S.C. App. 2 (Pub. L. 92-463). It was established under the authority of 46 U.S.C. 9307, and advises the Secretary of Homeland Security and the Coast Guard on Great Lakes pilot registration, operating requirements, training policies, and pilotage rates.

GLPAC meets at least once a year, normally at Coast Guard Headquarters, Washington, DC. It may also meet for extraordinary purposes. Further information about GLPAC is available by searching on “Great Lakes Pilotage Advisory Committee” at http://www.fido.gov/facadatabase/.

Notice of Meeting

GLPAC will hold a meeting at Coast Guard Headquarters on January 21, 2010.

The agenda includes the following:

(1) GLPAC review of public comments solicited by the Coast Guard in the Federal Register of July 21, 2009 (“Great Lakes Pilotage Ratemaking Methodology,” 74 FR 35838), in accordance with requirements of 46 U.S.C. 9307(d) for consultation with GLPAC before taking any significant action relating to Great Lakes pilotage; and

(2) Appointment of seventh member in compliance with requirements of 46 U.S.C. 9307(b)(2)(E). Applications for this position were solicited in a Federal Register notice published August 26, 2009 (74 FR 43148) and will be accepted until the position is filled.

The meeting is open to the public. Please note that the meeting may close early if all business is finished. At the Chair's discretion, members of the public may make oral presentations during the meeting. For information on facilities or services for individuals with disabilities or to request special assistance at the meeting, contact Mr. John Bobb (see FOR FURTHER INFORMATION CONTACT) as soon as possible.

Request for Applications

One appointment will be made from applicants representing the interests of vessel operators that contract for Great Lake pilotage services. A second member will be selected to represent shippers whose cargoes are transported through Great Lakes ports. To be eligible, applicants should have particular expertise, knowledge, and experience regarding the regulations and policies on the pilotage of vessels on the Great Lakes, and at least 5 years practical experience in maritime operations. GLPAC members serve for a term of 3 years and may be reappointed. All members serve at their own expense but receive reimbursement for travel and per diem expenses from the Federal Government.

In support of the Coast Guard policy on gender and ethnic nondiscrimination, we encourage qualified men and women and members of all racial and ethnic groups to apply. The Coast Guard values diversity, which includes persons with different characteristics and attributes who will enhance the mission of the Coast Guard.

Dated: November 30, 2009.
W.A. Muilenburg,
Captain, U.S. Coast Guard, Office of Waterways Management.

[FR Doc. E9-29125 Filed 12-7-09; 8:45 am]

BILLING CODE 9110-04-P